DEPARTMENT OF TRANSPORTATION

Federal Motor Carrier Safety Administration

[Docket No. FMCSA-2012-0160]

Qualification of Drivers; Exemption Applications; Vision

AGENCY: Federal Motor Carrier Safety Administration (FMCSA), DOT.

ACTION: Notice of applications for exemptions; request for comments.

SUMMARY: FMCSA announces receipt of applications from 10 individuals for exemption from the vision requirement in the Federal Motor Carrier Safety Regulations. They are unable to meet the vision requirement in one eye for various reasons. The exemptions will enable these individuals to operate commercial motor vehicles (CMVs) in interstate commerce without meeting the prescribed vision requirement in one eye.

DATES: Comments must be received on or before July 27, 2012.

ADDRESSES: You may submit comments bearing the Federal Docket Management System (FDMS) Docket No. FMCSA-2012-0160 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 10 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Kerry L. Baxter

Mr. Baxter, age 59, has had amblyopia in his left eye since childhood. The best corrected visual acuity in his right eye is 20/30, and in his left eye, 20/200. Following an examination in 2011, his optometrist noted, “I certify that, at this time, Mr. Kerry Baxter has sufficient vision to perform the driving tasks required to operate a commercial vehicle.” Mr. Baxter reported that he has driven tractor-trailer combinations for 40 years, accumulating 9 million miles. He holds a Class A Commercial Driver's License (CDL) from Utah. His driving record for the last 3 years shows no crashes and no convictions for moving violations in a CMV.

Tyrane Harper

Mr. Harper, 51, has had amblyopia in his right eye since childhood. The best corrected visual acuity in his right eye is 20/60, and in his left eye, 20/20. Following an examination in 2011, his optometrist noted, “Mr. Harper has sufficient vision to drive a commercial motor vehicle based on the exemption he is trying to obtain.” Mr. Harper reported that he has driven straight trucks for 16 years, accumulating 240,000 miles. He holds a Class D operator's license from Alabama. His driving record for the last 3 years shows one crash, which he was not cited for, and no convictions for moving violations in a CMV.

Edward C. Little

Mr. Little, 58, has had amblyopia in his left eye since childhood. The best corrected visual acuity in his right eye is 20/20, and in his left eye, count finger vision. Following an examination in 2012, his optometrist noted, “In my medical opinion, Mr. Little's vision is sufficient to operate a commercial vehicle.” Mr. Little reported that he has driven straight trucks for 6 weeks, accumulating 7,500 miles, and tractor-trailer combinations for 5 years, accumulating 323,000 miles. He holds a Class A CDL from Washington. His driving record for the last 3 years shows no crashes and no convictions for moving violations in a CMV.

John P. Loichinger

Mr. Loichinger, 36, has had amblyopia in his right eye since birth. The best corrected visual acuity in his right eye is 20/150, and in his left eye, 20/20. Following an examination in 2012, his optometrist noted, “His vision is stable and sufficient to perform the driving tasks required to operate a commercial vehicle.” Mr. Loichinger reported that he has driven straight trucks for 15 years, accumulating 30,000 miles. He holds a chauffer's license from Indiana. His driving record for the last 3 years shows no crashes and no convictions for moving violations in a CMV.

Jeffrey Macysyn

Mr. Macysyn, 35, has complete loss of vision in his right eye due to a traumatic injury sustained in childhood. The best corrected visual acuity in in his left eye is 20/15. Following an examination in 2011, his ophthalmologist noted, “In my opinion, Mr. Macysyn has sufficient peripheral vision using his left eye only to operate a commercial vehicle.” Mr. Macysyn reported that he has driven straight trucks for 5 years, accumulating 80,000 miles. He holds a Class D operator's license from Indiana. His driving record for the last 3 years shows no crashes and no convictions for moving violations in a CMV.

Peter G. Packard

Mr. Packard, 57, has had cystoidal macular edema in his right eye since 2011. The best corrected visual acuity in his right eye is 20/150, and in his left eye, 20/20. Following an examination in 2011, his ophthalmologist noted, “In my opinion Mr. Packard likely has sufficient visual function required to operate a commercial vehicle.” Mr. Packard reported that he has driven tractor-trailer combinations for 32 years, accumulating 3.2 million miles. He holds a Class A CDL from New Hampshire. His driving record for the last 3 years shows no crashes and no convictions for moving violations in a CMV.

Raef O. Parmelee

Mr. Parmelee, 42, has complete loss of vision in his left eye due to a traumatic injury sustained in 1996. The best corrected visual acuity in his right eye is 20/15. Following an examination in 2011, his optometrist noted, “I do find that he has sufficient vision to perform the driving tasks required to operate a commercial vehicle.” Mr. Parmelee reported that he has driven straight trucks for 25 years, accumulating 390,000 miles. He holds a Class C operator's license from Oregon. His driving record for the last 3 years shows one crash, which he was not cited for, and no convictions for moving violations in a CMV.

Ronald H. Sieg

Mr. Sieg, 41, has loss of vision in his right eye due to trauma sustained in childhood. The best corrected visual acuity in his right eye is light perception only, and in his left eye, 20/20. Following an examination in 2011, his ophthalmologist noted, “Therefore, in my professional opinion Mr. Sieg has the ability to perform the driving tasks required to operate a commercial vehicle.” Mr. Sieg reported that he has driven straight trucks for 19 years, accumulating 316,198 miles, and tractor-trailer combinations for 19 years, accumulating 32,186 miles. He holds a Class A CDL from Missouri. His driving record for the last 3 years shows no crashes and no convictions for moving violations in a CMV.

Ted L. Smeltzer

Mr. Smeltzer, 59, has had amblyopia in his right eye since childhood. The best corrected visual acuity in his right eye is 20/60, and in his left eye, 20/20. Following an examination in 2012, his optometrist noted, “I certify that this patient has sufficient vision to operate a commercial vehicle.” Mr. Smeltzer reported that he has driven straight trucks for 10 years, accumulating 100,000 miles, and tractor-trailer combinations for 10 years, accumulating 100,000 miles. He holds a Class A CDL from Indiana. His driving record for the last 3 years shows no crashes and no convictions for moving violations in a CMV.

Gregory S. Smith

Mr. Smith, 38, has complete loss of vision in his right eye since birth. The best corrected visual acuity in his right eye is light perception only, and in his left eye, 20/20. Following an examination in 2012, his optometrist noted, “I feel that Mr. Smith has sufficient vision to perform the driving tasks required to operate a commercial vehicle.” Mr. Smith reported that he has driven straight trucks for 5 years, accumulating 120,000 miles. He holds a Class D operator's license from Arkansas. His driving record for the last 3 years shows no crashes and no convictions for moving violations in a CMV.

Request for Comments

In accordance with 49 U.S.C. 31136(e) and 31315, FMCSA requests public comment from all interested persons on the exemption petitions described in this notice. The Agency will consider all comments received before the close of business July 27, 2012. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: June 20, 2012.
Larry W. Minor,
Associate Administrator for Policy.

[FR Doc. 2012-15631 Filed 6-26-12; 8:45 am]

BILLING CODE 4910-EX-P